DEPARTMENT OF HEALTH AND HUMAN SERVICES

Health Resources and Services Administration

Ryan White HIV/AIDS Program Resource and Technical Assistance Center for HIV Prevention and Care for Black MSM

AGENCY: Health Resources and Services Administration, HHS.

ACTION: Notice of deviation from competition requirements for Ryan White HIV/AIDS Program (RWHAP) Resource and Technical Assistance Center for HIV Prevention and Care for Black men who have sex with men (MSM) (Grant#U69HA27173).

SUMMARY: The HIV/AIDS Bureau (HAB) is requesting a deviation from the competition requirements in order to provide a 1 year extension with funds to the Resource and Technical Assistance Center for HIV Prevention and Care for Black MSM cooperative agreement recipient, the National Alliance of State and Territorial AIDS Directors. The purpose of the program is to develop a Resource and Technical Assistance Center for HIV prevention and care of models and interventions that increase the capacity, quality, and effectiveness of HIV/AIDS service providers to screen, diagnose, link, and retain, the adult and young Black MSM community in HIV clinical care. The 2-year project period ends June 30, 2016. The extension through June 30, 2017, for this project provides necessary funding and time to complete previously approved project activities, an orderly phase out, and transition to the next stage of evaluation for the models of HIV clinical care and best practices needed for HIV viral suppression. The next stage of planning by HAB is to use the models, tools, and best practices developed for improved health outcomes by this recipient for fiscal year 2017 competitive funding under the HAB Special Projects of National Significance Program.

FOR FURTHER INFORMATION CONTACT: Antigone Dempsey, Director, Division of Policy and Data, HRSA/HAB/DPD, 5600 Fishers Lane, Rockville, MD 20857, email: adempsey@hrsa.gov.

SUPPLEMENTARY INFORMATION:

Period of Performance: July 1, 2016, to June 30, 2017.

Intended Recipient of the Award: National Alliance of State and Territorial AIDS Directors.

Amount of Non-Competitive Award: $900,000.

CFDA Number: 93.145.

Authority: Sections 2606, 2654, 2671, and 2692 of Title XXVI of the Public Health Service Act, as amended by the Ryan White HIV/AIDS Treatment Extension Act of 2009 (Pub. L. 111-87)

Justification: The National Alliance of State and Territorial AIDS Directors has been very successful at collecting, developing, and analyzing clinical models of care and best practices for HIV care and treatment. Additional time is needed to complete analyses and disseminate them across the country to grant recipients, health centers, and HIV stakeholder communities. This funding reflects the amount needed to complete the final phase of program activities, which is the dissemination of models and best practices for HIV treatment and care through Ryan White Part C and D grant recipients, AIDS Education and Training Centers, and HRSA Bureau of Primary Health Care Health Centers to improve engagement of and retention in care for young Black MSM, one of the highest risk populations identified in the National HIV/AIDS Strategy for HIV transmission. The aim and purpose of dissemination of these interventions is to increase the capacity, quality, and effectiveness of HIV/AIDS service providers to screen, diagnose, link, and retain the adult and young Black MSM community in HIV clinical care.

Dated: April 29, 2016.
James Macrae,
Acting Administrator.

[FR Doc. 2016-10533 Filed 5-4-16; 8:45 am]

BILLING CODE 4165-15-P